DEPARTMENT OF DEFENSE

Department of the Navy

[Docket ID: USN-2010-0021]

Preferred Supplier Program (PSP); Correction

AGENCY: Department of the Navy, DoD.

ACTION: Notice of Proposed Policy Letter; correction.

SUMMARY: The Department of the Navy published a document in the Federal Register (FR Doc. 2010-12349) of May 24, 2010, concerning the establishment of a preferred supplier program. The document contained some incorrect information.

FOR FURTHER INFORMATION CONTACT: Clarence Belton, 703-693-4006 or clarence.belton@navy.mil.

Correction

In the Federal Register (FR Doc. 2010-12349) of May 24, 2010, beginning on page 28788, in the second column, correct the DATES and ADDRESSES captions, and on page 28789, in the first column, third paragraph from the top, correct the following to read:

DATES: DON invites interested parties from both the public and private sectors to provide comments to be considered in the formulation of the final policy letter. In particular, DON encourages respondents to offer their views as discussed below, in Section C, “Solicitation of Public Comment.”

Interested parties should submit comments, in writing, to the address below, on or before July 23, 2010.

ADDRESSES: Comments may be submitted by any of the following methods:

Federal eRulemaking Portal: http://www.regulations.gov.

E-mail: preferredsupplier@navy.mil.

Facsimile: 703-614-9394.

Mail: DASN (A&LM), ATTN: Clarence Belton, 1000 Navy Pentagon, Room BF992, Washington, DC 20350-1000.

Instructions: Please submit comments only and cite “Proposed DON PSP Policy Letter” in all correspondence. All comments received will be posted, without change or redaction, to http://www.regulations.gov, so commenters should not include information that they do not wish to be posted (for example, personal or business-confidential).

* * * * *

During each fiscal year, DASN (A&LM) shall reassess and rate the top 25 DON contractors. The top 25 DON contractors will be determined by the value of contract awards for the most recent fiscal year. Other contractors may apply to join the PSP. DASN (A&LM) shall evaluate all applicants currently eligible for assessment in CPARS using the same process as it does to evaluate the top 25 contractors. DASN (A&LM) will establish a 30-day application period that will begin no later than October 1, annually.

* * * * *

Dated: May 24, 2010.
A. M. Vallandingham,
Lieutenant Commander, Office of the Judge Advocate General, U.S. Navy, Federal Register Liaison Officer.

[FR Doc. C1-2010-13010 Filed 5-28-10; 8:45 am]

BILLING CODE 3810-FF-P